POSTAL SERVICE

39 CFR Part 20

International Product and Price Changes; Correction

AGENCY: Postal Service ™

ACTION: Final rule; correction.

SUMMARY: The Postal Service published in the Federal Register of February 25, 2009, a document concerning international product and price changes for implementation in May 2009. Inadvertently, Exhibit 292.452 included in that document, did not include all destination countries and price groups. This document corrects the table.

DATES: This correction is effective and is applicable on May 11, 2009. We will implement this international price change concurrent with our domestic Mailing Services price change on May 11, 2009.

FOR FURTHER INFORMATION CONTACT: Rick Klutts at 813-877-0372.

SUPPLEMENTARY INFORMATION: The Postal Service published a document in the Federal Register on February 25, 2009, (74 FR 8473) amending sub-section 292 of the International Mail Manual (IMM®). In FR doc. 36-8473, published in the Federal Register of February 25, 2009, (74 FR 8473) sub-section 292.452 was inadvertently published without a complete list of IPA destination countries. This amendment corrects Exhibit 292.452 published on February 25, 2009.

In rule FR Doc. E9-3962 published on February 25, 2009, (74 FR 8473) make the following correction. On pages 8477-8480, remove the current Exhibit 292.452 and insert the following exhibit.

Exhibit 292.452—IPA Country Price Groups and Foreign Exchange Offices
Price group | Country | Destination code | Exchange office name
15 | Afghanistan | KBL | Kabul.
12 | Albania | TIA | Tirana.
15 | Algeria | ALG | Algiers.
11 | Andorra.¹
15 | Angola | LAD | Luanda.
13 | Anguilla | AXA | The Valley.
13 | Antigua and Barbuda | ANU | St. John's.
13 | Argentina | BUE | Buenos Aires Avion.
15 | Armenia | EVN | Yerevan.
13 | Aruba | AUA | Oranjestad.
12 | Ascension.¹
9 | Australia.² | SYD | Sydney.
11 | Austria | VIE | 1000 Wien.
15 | Azerbaijan | BAK | Baku.
11 | Azores.¹
13 | Bahamas | NAS | Nassau.
15 | Bahrain | BAH | Bahrain.
15 | Bangladesh | DAC | Dhaka Apt.
13 | Barbados | BGI | Bridgetown.
12 | Belarus | MSQ | Minsk PI 2.
11 | Belgium | BRU | Brussels EMC.
13 | Belize | BZE | Belize City.
15 | Benin | COO | Cotonou.
13 | Bermuda | BDA | Hamilton.
15 | Bhutan.¹
13 | Bolivia | LPB | La Paz.
13 | Bonaire.¹,³
12 | Bosnia and Herzegovina | SJJ | Sarajevo.
15 | Botswana | GBE | Gabrone.
13 | Brazil | RIO | Rio de Janeiro.
13 | British Virgin Islands | RAD | Roadtown.
14 | Brunei Darussalam | BWN | Bandar Seri Begawan.
12 | Bulgaria | SOF | Sofia.
15 | Burkina Faso | OUA | Ouagadougou.
15 | Burma (Myanmar) | RGN | Rangoon.
15 | Burundi | BJM | Bujumbura.
14 | Cambodia | PNH | Phnom Penh.
15 | Cameroon | DLA | Douala.
1 | Canada | See 292.47—Canadian Labeling Information
15 | Cape Verde | RAI | Praia.
13 | Cayman Islands | GCM | Grand Cayman.
15 | Central African Republic | BGF | Bangui.
15 | Chad | NDJ | N'Djamena.
13 | Chile | SCL | Santiago Avion.
14 | China | BJS | Beijing.
13 | Colombia | BOG | Bogota Aeropuerto.
15 | Comoros Islands.¹
15 | Congo, Dem. Rep. of the | FIH | Kinshasa CTT.
15 | Congo, Rep. of the | BZV | Brazzaville.
11 | Cook Islands | RAR | Rarotonga.
5 | Corsica.¹
13 | Costa Rica | SJO | San Jose.
15 | Cote d'Ivoire | ABJ | Abidjan.
12 | Croatia | ZAG | Zagreb.
13 | Cuba | HAV | Havana Avion.
13 | Curacao ³ | CUR | Willemstad.
15 | Cyprus | NIC | Nicosia.
12 | Czech Republic | PRG | Prague 120.
11 | Denmark | CPH | Copenhagen INC.
15 | Djibouti | JIB | Djibouti.
13 | Dominica | DOM | Roseau.
13 | Dominican Republic | SDQ | Santo Domingo.
13 | Ecuador | UIO | Quito.
15 | Egypt | CAI | Cairo Int'l Airport.
13 | El Salvador | SAL | San Salvador.
15 | Equatorial Guinea | SSG | Malbo.
15 | Eritrea | ASM | Asmara.
12 | Estonia | TLL | Tallinn.
15 | Ethiopia | ADD | Addis Ababa.
13 | Falkland Islands.¹
12 | Faroe Islands.¹
14 | Fiji | NAN | Nadi.
11 | Finland | HEL | Helsinki.
5 | France | CDG | Roissy CI.
13 | French Guiana | CAY | Cayenne.
14 | French Polynesia | FAA | PPT Centre Traitement Courier Air.
15 | Gabon | LBV | Libreville.
15 | Gambia | BJL | Banjul.
15 | Georgia, Republic of | TBS | Tbilisi.
4 | Germany | FRA | Frankfurt/M.
15 | Ghana | ACC | Accra.
11 | Gibraltar | GIB | Gibraltar.
3 | Great Britain (includes England, Scotland, Wales, Northern Ireland, Guernsey, Jersey, Alderney, Sark, and The Isle of Man) | LON | Great Britain.
11 | Greece | ATH | Athens.
11 | Greenland.¹
13 | Grenada | GND | St. George's.
13 | Guadeloupe | PTP | Pointe-a-Pitre.
13 | Guatemala | GUA | Guatemala.
15 | Guinea | CKY | Conakry.
15 | Guinea-Bissau | OXB | Bissau.
13 | Guyana | GEO | Georgetown.
13 | Haiti | PAP | Port-au-Prince.
13 | Honduras | TGU | Tegucigalpa.
14 | Hong Kong | HKG | Victoria.
12 | Hungary | BUD | Budapest 1005.
11 | Iceland | REK | Reykjavik.
15 | India | DEL | Delhi Air.
14 | Indonesia | JKT | Jakarta Soekarnohatta.
15 | Iran | THR | Tehran.
15 | Iraq | BGW | Baghdad.
11 | Ireland | DUB | Dublin.
11 | Israel | TLV | Tel Aviv-Yafo.
7 | Italy | MIL | Milan.
13 | Jamaica | KIN | Kingston.
10 | Japan | NRT | Narita AP A.
15 | Jordan | AMM | Amman.
15 | Kazakhstan | ALA | Almaty PCI-5.
15 | Kenya | NBO | Nairobi.
14 | Kiribati | TRW | Tarawa.
14 | Korea, Democratic People's Republic of (North).¹
14 | Korea, Republic of (South) | SEL | Seoul IPO.
15 | Kuwait | KWI | Kuwait MSC.
12 | Kyrgyzstan | FRU | Bichkek PI-1.
14 | Laos | VTE | Vientiane.
12 | Latvia | RIX | Riga OE Letters.
15 | Lebanon | BEY | Beirut.
15 | Lesotho | MSU | Maseru.
15 | Liberia | MLW | Monrovia.
15 | Libya | TIP | Tripoli.
11 | Liechtenstein.¹
12 | Lithuania | VNO | Vilnius.
11 | Luxembourg | LUX | Luxembourg Ville.
12 | Macao | MFM | Macau.
12 | Macedonia | SKP | 1003 SKOP JEB.
15 | Madagascar | TNR | Antananarivo TRI.
11 | Madeira Islands.¹
15 | Malawi | LBE | Limbe.
14 | Malaysia | KUL | Kuala Lumpur.
15 | Maldives | MLE | Male.
15 | Mali | BKO | Bamako.
15 | Malta | MAR | Valletta.
13 | Martinique | FDF | Fort de France.
15 | Mauritania | NKC | Nouakchott.
15 | Mauritius | MRU | Port Louis SSR.
2 | Mexico | MEX | Mexico Aereo DF.
15 | Moldova | KIV | Kishinev.
11 | Monaco | MCM | Monte Carlo.
14 | Mongolia | ULN | Ulaanbaatar CPO.
13 | Montenegro | TGD | Montenegro Post.
15 | Montserrat | MNI | Plymouth.
15 | Morocco | CAS | Casablanca CCI.
15 | Mozambique | MPM | CPI Maputo.
15 | Namibia | WDH | Windhoek.
14 | Nauru | INU | Nauru.
14 | Nepal | KTM | Kathmandu.
8 | Netherlands | AMS | Amsterdam EXP.
13 | Netherlands Antilles.¹,³
14 | New Caledonia | NOU | Noumea CTC.
11 | New Zealand ⁴ | AKL | Auckland.
13 | Nicaragua | MGA | Managua.
15 | Niger | NIM | Niamey CNTLC.
15 | Nigeria | LOS | Lagos.
11 | Norway | OSL | Oslo Letter Centre.
15 | Oman | MCT | Muscat.
15 | Pakistan | ISB | Islamabad IM.
13 | Panama | PTY | Panama City.
14 | Papua New Guinea | BOR | Boroko.
13 | Paraguay | ASU | Asuncion.
13 | Peru | LIM | Lima Transito.
14 | Philippines | MNL | Manila.
14 | Pitcairn Island.¹
12 | Poland | WAW | Warsaw Wer.
11 | Portugal | LIS | Lisbon Province.
15 | Qatar | DOH | Doha.
15 | Reunion | RUN | St. Denis.
12 | Romania | BUH | Bucuresti C.
12 | Russia | MOW | Moscow PCI-1.
15 | Rwanda | KGL | Kigali.
13 | Saba.¹,³
13 | Saint Christopher (St. Kitts) and Nevis | SKB | Basseterre.
13 | Saint Eustatius.¹,³
13 | Saint Helena.¹
13 | Saint Lucia | SLU | Castries.
13 | Saint Maarten ³ | SXM | Philipsburg.
13 | Saint Pierre and Miquelon.¹
13 | Saint Vincent and The Grenadines | KTN | Kingstown.
11 | San Marino.¹
12 | Sao Tome and Principe.¹
15 | Saudi Arabia | DMM | Dammam Central Post.
15 | Senegal | DKR | Dakar Centre de Tri Postal.
12 | Serbia, Republic of | BEG | Belgrad C 11003 Letters.
15 | Seychelles | SEZ | Victoria Seychelles Post Office.
15 | Sierra Leone | FNA | Freetown.
14 | Singapore | SIN | Singapore.
12 | Slovak Republic (Slovakia) | BTS | Bratislava 090.
12 | Slovenia | LJU | Ljubljana 1003.
14 | Solomon Islands | HIR | Honiara.
15 | Somalia | MGQ | Mogadishu.
15 | South Africa | JNB | Johannesburg.
11 | Spain | MAD | Madrid Airport.
15 | Sri Lanka | CMB | Colombo.
15 | Sudan | KRT | Khartoum.
13 | Suriname | PBM | Paramaribo.
15 | Swaziland | MTS | Manzini.
11 | Sweden | STO | Stockholm Flug.
6 | Switzerland | ZRH | Zurich 1.
15 | Syria | DAM | Damascus.
14 | Taiwan | TPE | Taipei.
15 | Tajikistan | DYU | Dushanbe.
15 | Tanzania | DAR | Dar es Salaam.
14 | Thailand | BKK | Suvarnabhumi Mail Centre.
15 | Togo | LFW | Lome.
14 | Tonga | TBU | Nukualofa.
13 | Trinidad and Tobago | POS | Port of Spain.
15 | Tristan da Cunha.¹
15 | Tunisia | TUN | Tunis.
12 | Turkey | IST | Istanbul Uluslararasi Posta Isleme.
12 | Turkmenistan | ASB | Achgabat PI-1.
13 | Turks and Caicos Islands | GDT | Grand Turk.
14 | Tuvalu.¹
15 | Uganda | KLA | Kampala.
15 | Ukraine | IEV | Kiev PI-1.
15 | United Arab Emirates | DXB | Dubai.
13 | Uruguay | MVD | Montevideo.
15 | Uzbekistan | TAS | Tashkent.
14 | Vanuatu | VLI | Port Vila.
11 | Vatican City | VAT | Vatican City.
13 | Venezuela | CCS | Caracas.
14 | Vietnam | SGN | Ho Chi Minh Ville.
14 | Wallis and Futuna Islands.¹
14 | Western Samoa | APW | Apia.
15 | Yemen | SAH | Sanaa.
15 | Zambia | LUN | Lusaka Airmail.
15 | Zimbabwe | HRE | Harare CSO.
Footnotes:
¹ Direct country sacks are not made to these destinations. Prepare direct country packages and include in mixed direct country sacks labeled to the assigned U.S. exchange office listed in 292.462.
² At the mailer's option, a finer sortation for IPA items addressed to Australia may be used. If this option is chosen, items addressed with postal codes beginning with 0, 1, 2, 4, and 9 and uncoded mail should be sorted and packaged to Sydney. Direct country sacks should be tagged to Sydney as well. Both the three-letter exchange office code, “SYD,” and the country name, Australia, should be entered in the “TO” block of Tag 178. Items addressed with postal codes beginning with 3, 5, 6, 7, and 8 should be sorted and packaged to Melbourne. Direct country sacks should be tagged to Melbourne as well. Both the three-letter exchange office code, “MEL,” and the country name, Australia, should be entered in the “TO” block of Tag 178.
³ Netherlands Antilles includes Bonaire, Curacao, Saba, St. Eustatius, and St. Maarten.
⁴ For all destinations to New Zealand other than Cook Islands. For Cook Islands see Exhibit 292.452.

* * * * *

Neva R. Watson,
Attorney, Legislative.

[FR Doc. E9-8512 Filed 4-22-09; 8:45 am]

BILLING CODE 7710-12-P